DEPARTMENT OF ENERGY

Federal Energy Regulatory Commission

Combined Notice of Filings

Take notice that the Commission has received the following Natural Gas Pipeline Rate and Refund Report filings:

Docket Number: CP20-121-000.

Applicants: Transcontinental Gas Pipe Line Company, LLC.

Description: Abbreviated Application for Abandonment of Firm Transportation Service Provided for Various Customers of Transcontinental Gas Pipe Line Company, LLC.

Filed Date: 3/23/2020.

Accession Number: 20200323-5153.

Comments/Protests Due: 5 p.m. ET 4/13/2020.

Docket Number: CP20-122-000.

Applicants: Transcontinental Gas Pipe Line Company, LLC.

Description: Abbreviated Application for Abandonment of Firm Transportation Service of Transcontinental Gas Pipe Line Company, LLC.

Filed Date: 3/23/2020.

Accession Number: 20200323-5162.

Comments/Protests Due: 5 p.m. ET 4/13/2020.

Docket Number: PR20-46-000.

Applicants: AMP Intrastate Pipeline, LLC.

Description: Tariff filing per 284.123(b), (e)/: AMP Intrastate Pipeline, LLC. Baseline SOC Filing to be effective 2/24/2020.

Filed Date: 3/23/2020.

Accession Number: 202003235057.

Comments/Protests Due: 5 p.m. ET 4/13/2020.

Docket Number: PR20-34-001.

Applicants: Interstate Power and Light Company.

Description: Tariff filing per 284.123(b), (e)/: Amendment to IPL Revised Statement of Operating Conditions to be effective 2/7/2020.

Filed Date: 3/24/2020.

Accession Number: 202003245145.

Comments/Protests Due: 5 p.m. ET 4/14/2020.

Docket Numbers: RP20-680-000.

Applicants: WBI Energy Transmission, Inc.

Description: § 4(d) Rate Filing: 2020 Non-conforming & Negotiated Service Agreement—Kentex to be effective 4/1/2020.

Filed Date: 3/25/20.

Accession Number: 20200325-5044.

Comments Due: 5 p.m. ET 4/6/20.

Docket Numbers: RP20-681-000.

Applicants: Cheyenne Connector, LLC.

Description: Compliance filing CC Cheyenne Connector (CP18-102) Implementation, Baseline, and Negotiated Rates to be effective 5/25/2020.

Filed Date: 3/25/20.

Accession Number: 20200325-5118.

Comments Due: 5 p.m. ET 4/6/20.

Docket Numbers: RP20-682-000.

Applicants: Rockies Express Pipeline LLC.

Description: Compliance filing REX Cheyenne Hub Enhancement (CP18-103) Implementation and Negotiated Rates to be effective 5/25/2020.

Filed Date: 3/25/20.

Accession Number: 20200325-5145.

Comments Due: 5 p.m. ET 4/6/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 26, 2020.
Nathaniel J. Davis, Sr.,
Deputy Secretary.

[FR Doc. 2020-06757 Filed 3-31-20; 8:45 am]

BILLING CODE 6717-01-P